DEPARTMENT OF ENERGY

[Docket No. IC03-423-000, FERC Form No. 423]

Federal Energy Regulatory Commission

Commission Collection Activities, Proposed Collection; Comment Request; Extension

February 6, 2003.

AGENCY: Federal Energy Regulatory Commission.

ACTION: Notice.

SUMMARY: In compliance with the requirements of section 3506(c)(2)(a) of the Paperwork Reduction Act of 1995 (Pub. L. No. 104-13), the Federal Energy Regulatory Commission (Commission) is soliciting public comment on the specific aspects of the information collection described below.

DATES: Comments on the collection of information are due by April 9, 2003.

ADDRESSES: Copies of the proposed collection of information can be obtained from Michael Miller, Office of the Executive Director, ED-30, 888 First Street NE., Washington, DC 20426. Comments on the proposed collection of information may be filed either in paper format or electronically. Those parties filing electronically do not need to make a paper filing. For paper filings, the original and 14 copies of such comments should be submitted to the Office of the Secretary, Federal Energy Regulatory Commission, 888 First Street NE., Washington, DC 20426 and should refer to Docket No. 03-423-000.

Documents filed electronically via the Internet must be prepared in WordPerfect, MS Word, Portable Document Format, or ASCII format. To file the document, access the Commission's Web site at http://www.ferc.gov and click on “Make an E-filing,” and then follow the instructions for each screen. First time users will have to establish a user name and password. The Commission will send an automatic acknowledgment to the sender's E-mail address upon receipt of comments. User assistance for electronic fillings is available at (202) 502-8258 or by e-mail to efiling@ferc.gov. Comments should not be submitted to this e-mail address.

All comments may be viewed, printed or downloaded remotely via the Internet through FERC's homepage using the FERRIS link. For user assistance, contact FERCOnlineSupport@ferc.gov or toll-free at (866) 208-3676 or for TTY, contact (202)502-8659.

FOR FURTHER INFORMATION CONTACT: Michael Miller may be reached by telephone at (202) 502-8415, by fax at (202) 208-2425 and by E-mail at michael.miller@ferc.gov.

SUPPLEMENTARY INFORMATION: The information collected under the requirements of FERC Form No. 423, “Monthly Report of Cost and Quality of Fuels for Electric Plants” (OMB No. 1902-0024) is used by the Commission to carry out its responsibilities in implementing provisions of the Federal Power Act (FPA) as amended by the Public Utility Regulatory Policies Act (PURPA).

The Commission uses the information reported on FERC Form No. 423 to conduct fuel reviews under section 205(a) and (e)of the FPA, and to prepare expert testimony in electric utility rate cases filed with the Commission. The Form 423 data provides the only effective means for assessing the potential impact of new developments on the future utility fuel supply patterns. The Commission's staff compare delivered fuel costs for utilities receiving like fuels of similar quality; detect consistently high cost patterns or irregularities indicative of possible uneconomic fuel purchase practices; evaluate the economic effect of unusual fuel purchases practices, such as buying fuel from affiliate fuel sources, as opposed to selecting buyers by competitive bids, and investigate a broad range of fuel costs and fuel purchase practice issues raised in contested rate proceedings.

With the transition to power markets the data from FERC Form 423, in conjunction with other data sources, allow Commission staff to identify potential out-of-merit dispatch practices by system operators, a quick source for estimating the thermal efficiency of individual plants and when used in conjunction with bid data, indicates the efficiency of markets by identifying the key components associated with generators' variable costs.

The Commission implements these filing requirements in the Code of Federal Regulations (CFR) under 18 CFR 141.61. The statutory authorities for this mandatory information collection requirement are sections 205, of the Federal Power Act, as amended by section 208 of the Public Utility Regulatory Policies Act (49 Stat. 851; 16 U.S.C. 824d).

Action

The Commission is requesting a three-year extension of the current expiration date with no changes to the existing collection of data. It should be noted that during OMB's last review of Form 423, the Commission was directed prior to its next submission to OMB, to make a determination as to whether the information reported on Form 423 should be confidential. In order to assist the Commission in making that determination, the Commission seeks comments on how the public disclosure of information contained on Form 423 harms the competitive position of reporting parties and adversely affects the competitiveness of the market. Burden Statement: Public reporting burden for this collection is estimated as:

Number of respondents (1) | Annual responses per respondent (2) | Average burden hours per response (3) | Total burden hours (1)×(2)×(3)
584 | 12 | 1 | 7,008

Estimated Burden: 7,008 total burden hours, 584 respondents, 12 responses annually, 1.0 hours per response (average). In Order No. 622, 66 FR 67076 (December 28, 2001), the Commission amended its regulations to provide for electronic filing of Form No. 423 commencing with the January 2002 filing. These changes to the reporting requirements resulted in a reduction in burden for all respondents.

Estimated cost burden to respondents is $394,338; (i.e., 7,008 hours divided by 2,080 hours per full time employee per year multiplied by $117,041 per year equals $394,338)(rounded off).

The reporting burden includes the total time, effort, or financial resources expended to generate, maintain, retain, or disclose or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than anyone particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

Magalie R. Salas,
Secretary.

[FR Doc. 03-3529 Filed 2-12-03; 8:45 am]

BILLING CODE 6717-01-P